DEPARTMENT OF HEALTH AND HUMAN SERVICES

Administration for Children and Families

Submission for OMB Review; Comment Request

Proposed Projects

Title: Evaluation of the Community Healthy Marriage Initiative Implementation Study.

OMB No.: 0970-0283.

Description: The Administration for Children and Families (ACF), U.S. Department of Health and Human Services (HHS), is conducting a demonstration and evaluation called the Community Healthy Marriage Initiative (CHMI).

Demonstration programs have been funded through Child Support Enforcement waivers authorized under section 1115 of the Social Security Act to support healthy marriage, improve child well-being and increase the financial security of children. The objective of the evaluation is to: (1) Assess the implementation of community interventions designed to provide marriage education by examining the way the projects operate and by examining child support outcomes among low-income families in the community; and (2) evaluate the community impacts of these interventions on marital stability and satisfaction, child well-being and child support outcomes among low-income families.

The purpose of this information collection is to continue to collect implementation data under the protocols previously approved by the Office of Management and Budget (OMB), OMB Approval No. 0970-0283. Primary data for the implementation evaluation will come from observations, interviews, focus groups and records. One-on-one and small group interviews with project staff and marriage education service providers in the community will provide a detailed understanding of the administration and operation of the demonstrations. Focus group discussions will provide insights into participants' perspectives on marriage education and their experiences with the CHMI interventions.

In addition to the implementation information collected under this request, an impact evaluation will be integrated with the implementation study and will assess the effects of healthy marriage initiatives by comparing family and child well-being outcomes in the CHMI communities with similar outcomes in comparison communities that are well matched to the project sites. Data from the implementation studies will provide the basis for the instrumental variable models of CHMI impacts to help determine direct or indirect exposure to marriage-related services. Baseline data collected under the impact evaluation has been approved by OMB (See OMB Approval No. 0970-0322).

Respondents: Lead Project Staff, Service Provider Organization Staff, Key Community, Civic Stakeholders, and Program Participants.

Annual Burden Estimates
Instrument | Number of respondents | Average number of responses per respondents | Average burden hours per response | Total burden hours
Administrative interviews | 200 | 2 | 1 | 400
Small group interviews | 25 | 1 | 1.6 | 40

Estimated Total Annual Burden Hours: 440

Additional Information: Copies of the proposed collection may be obtained by writing to the Administration for Children and Families, Office of Planning, Research and Evaluation, 370 L'Enfant Promenade, SW., Washington, DC 20447, Attn: OPRE Reports Clearance Officer. E-mail address: OPREInfoCollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, FAX: 202-395-6974, Attn: Desk Officer for ACF.

Dated: June 18, 2008.
Brendan C. Kelly,
OPRE Reports Clearance Officer.

[FR Doc. E8-14222 Filed 6-24-08; 8:45 am]

BILLING CODE 4184-01-M